DEPARTMENT OF ENERGY

Federal Energy Regulatory Commission

[Docket No. CP07-103-000]

Colorado Interstate Gas Company; Notice of Request Under Blanket Authorization

March 23, 2007.

Take notice that on March 14, 2007, Colorado Interstate Gas Company (CIG), Post Office Box 1087, Colorado Springs, Colorado 80944, filed in Docket No. CP07-103-000, a prior notice request pursuant to sections 157.205, 157.208, and 157.210 of the Federal Energy Regulatory Commission's regulations under the Natural Gas Act for authorization to construct and operate approximately eleven miles of pipeline looping facilities, located in Colorado and Oklahoma, to increase natural gas transportation capacity out of the Raton Basin area, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, CIG proposes in the Raton Basin 2007 Expansion Project to construct two, non-contiguous looped pipeline segments adjacent to existing CIG mainlines; one segment of approximately 4.48 miles of 20-inch diameter pipeline, located in Las Animas County, Colorado, and one segment of approximately 6.46 miles of 24-inch diameter pipeline, located in Texas County, Oklahoma. CIG estimates the cost of construction to be $11,895,500. CIG states that it has executed Firm Transportation Agreements with three shippers for an additional 29 MMcf/d of firm transportation service for terms of ten years.

Any questions regarding the application should be directed to Richard Derryberry, Director, Regulatory Affairs, Colorado Interstate Gas Company, Post Office Box 1087, Colorado Springs, Colorado 80944, or call at (719) 520-3782.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Philis J. Posey,
Acting Secretary.

[FR Doc. E7-5756 Filed 3-28-07; 8:45 am]

BILLING CODE 6717-01-P